DEPARTMENT OF TRANSPORTATION

Federal Aviation Administration

14 CFR Part 39

[Docket No. FAA-2012-0596; Directorate Identifier 2011-NM-245-AD; Amendment 39-17236; AD 2012-21-20]

RIN 2120-AA64

Airworthiness Directives; Airbus Airplanes

AGENCY: Federal Aviation Administration (FAA), Department of Transportation (DOT).

ACTION: Final rule.

SUMMARY: We are adopting a new airworthiness directive (AD) for certain Airbus Model A330-200 freighter series airplanes, Model A330-200 and -300 series airplanes, and Model A340-200, -300, -500, and -600 series airplanes. This AD was prompted by reports of the ram air turbine (RAT) not deploying when tested. This AD requires identification of the supplier, part number, and serial number of the installed RAT actuator, and re-identification of the actuator and RAT, or replacement of the RAT actuator with a serviceable unit and re-identification of the RAT, if necessary. We are issuing this AD to prevent non-deployment of the RAT, which if occurred following a total engine flame-out, or during a total loss of normal electrical power generation, could result in reduced control of the airplane.

DATES: This AD becomes effective December 5, 2012.

The Director of the Federal Register approved the incorporation by reference of certain publications listed in this AD as of December 5, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA 1601 Lind Avenue SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on June 18, 2012 (77 FR 36209). That NPRM proposed to correct an unsafe condition for the specified products. The MCAI states:

During a production test flight, a Ram Air Turbine (RAT) did not deploy when tested. An investigation, conducted by the RAT manufacturer Hamilton Sundstrand (HS) and Arkwin Industries, revealed that the RAT did not deploy due to insufficient stroke inside one of the actuator deployment solenoids.

This condition, if occurring following a total engine flame out, or during a total loss of normal electrical power generation, could possibly result in reduced control of the aeroplane.

For the reasons described above, this [European Aviation Safety Agency] AD requires the modification of the affected RAT actuator deployment mechanism, or replacement of the RAT actuator with a modified unit.

The required actions include identification of the supplier, part number, and serial number of the installed RAT actuator, and re-identification of the actuator and RAT, or replacement of the RAT actuator with a serviceable unit and re-identification of the RAT, if necessary. You may obtain further information by examining the MCAI in the AD docket.

Comments

We gave the public the opportunity to participate in developing this AD. We received no comments on the NPRM (77 FR 36209, June 18, 2012) or on the determination of the cost to the public.

Conclusion

We reviewed the available data and determined that air safety and the public interest require adopting the AD as proposed—except for minor editorial changes and re-identification of the sub-paragraphs of paragraphs (g) and (h) of this final rule. We have determined that these minor changes:

• Are consistent with the intent that was proposed in the NPRM (77 FR 36209, June 18, 2012) for correcting the unsafe condition; and

• Do not add any additional burden upon the public than was already proposed in the NPRM (77 FR 36209, June 18, 2012).

Costs of Compliance

We estimate that this AD will affect 56 products of U.S. registry. We also estimate that it will take about 14 work-hours per product to comply with the basic requirements of this AD. The average labor rate is $85 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be $66,640, or $1,190 per product.

In addition, we estimate that any necessary follow-on actions would take about 13 work-hours and require parts costing $0, for a cost of $1,105 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 36209, June 18, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-21-20 Airbus: Amendment 39-17236. Docket No. FAA-2012-0596; Directorate Identifier 2011-NM-245-AD.

(a) Effective Date

This airworthiness directive (AD) becomes effective December 5, 2012.

(b) Affected ADs

None.

(c) Applicability

This AD applies to the airplanes identified in paragraphs (c)(1) and (c)(2) of this AD, certificated in any category.

(1) Airbus Model A330-201, -202, -203, -223, -243, -223F -243F, -301, -302, -303, -321, -322, -323, -341, -342, and -343 airplanes, all manufacturer serial numbers (MSN); except those on which Airbus modification 201043 has been embodied in production.

(2) Airbus Model A340-211, -212, -213, -311, -312, -313, -541, and -642 airplanes, all MSN; except those on which Airbus modification 201043 or 201042 has been embodied in production.

(d) Subject

Air Transport Association (ATA) of America Code 29: Hydraulic Power.

(e) Reason

This AD was prompted by reports of the ram air turbine (RAT) not deploying when tested. We are issuing this AD to prevent non-deployment of the RAT, which if occurred following a total engine flame-out, or during a total loss of normal electrical power generation, could result in reduced control of the airplane.

(f) Compliance

You are responsible for having the actions required by this AD performed within the compliance times specified, unless the actions have already been done.

(g) Identification and Replacement for Certain Airbus Model A330, and A340-200 and -300 Airplanes

For Airbus Model A330-200 freighter series airplanes, Model A330-200 and -300 series airplanes, and Model A340-200 and -300 series airplanes: Within 15,000 flight hours or 36 months, whichever occurs first after the effective date of this AD, identify the supplier, part number (P/N), and serial number (S/N) of the installed RAT actuator, in accordance with the Accomplishment Instructions of Airbus Mandatory Service Bulletin A330-29-3114, dated May 18, 2011 (for Model A330-200 freighter series airplanes, and Model A330-200 and -300 series airplanes); or Airbus Mandatory Service Bulletin A340-29-4089, dated May 18, 2011 (for Model A340-200 and -300 series airplanes).

(1) If the supplier identified is Arkwin, and the identified actuator part number and serial number are listed as already modified in Hamilton Sundstrand Service Bulletin ERPS06M-29-18, dated March 8, 2011, but not yet re-identified: Before further flight, re-identify the actuator and the RAT, in accordance with the Accomplishment Instructions of Airbus Mandatory Service Bulletin A330-29-3114, dated May 18, 2011 (for Model A330-200 freighter series airplanes, and Model A330-200 and -300 series airplanes); or Airbus Mandatory Service Bulletin A340-29-4089, dated May 18, 2011 (for Model A340-200 and -300 series airplanes).

(2) If the supplier identified is Arkwin Industries and the identified actuator part number and serial number are listed as not modified as specified in Hamilton Sundstrand Service Bulletin ERPS06M-29-18, dated March 8, 2011: Before further flight, replace the RAT actuator with a serviceable unit, and re-identify the RAT, in accordance with the Accomplishment Instructions of Airbus Mandatory Service Bulletin A330-29-3114, dated May 18, 2011 (for Model A330-200 freighter series airplanes, and Model A330-200 and -300 series airplanes); or Airbus Mandatory Service Bulletin A340-29-4089, dated May 18, 2011 (for Model A340-200 and -300 series airplanes).

(h) Identification and Replacement for Certain Airbus Model A340-500 and -600 Airplanes

For Model A340-500 and -600 airplanes: Within 15,000 flight hours or 36 months, whichever occurs first after the effective date of this AD, identify the part number and serial number of the installed RAT actuator, in accordance with the Accomplishment Instructions of Airbus Mandatory Service Bulletin A340-29-5018, dated May 18, 2011.

(1) If the identified actuator part number and serial number are listed as already modified as specified in Hamilton Sundstrand Service Bulletin ERPS33T-29-5, dated March 8, 2011, but not yet re-identified: Before further flight, re-identify the actuator and the RAT, in accordance with the Accomplishment Instructions of Airbus Mandatory Service Bulletin A340-29-5018, dated May 18, 2011.

(2) If the identified actuator part number and serial number are listed as not modified as specified in Hamilton Sundstrand Service Bulletin ERPS33T-29-5, dated March 8, 2011: Before further flight, replace the RAT actuator with a serviceable unit, and re-identify the RAT, in accordance with the Accomplishment Instructions of Airbus Mandatory Service Bulletin A340-29-5018, dated May 18, 2011.

(i) Parts Installation Limitations

(1) As of the effective date of this AD, no person may install any RAT actuator having P/N 5912958 or P/N 1211575-001, or any RAT having P/N 1702934A having a serial number listed as affected in Hamilton Sundstrand Service Bulletin ERPS06M-29-18, dated March 8, 2011, on any airplane, unless the RAT actuator has been replaced with a serviceable unit and the RAT has been re-identified, as applicable, in accordance with the Accomplishment Instructions of Airbus Mandatory Service Bulletin A330-29-3114, dated May 18, 2011 (for Model A330-200 freighter series airplanes, and Model A330-200 and -300 series airplanes); or Airbus Mandatory Service Bulletin A340-29-4089, dated May 18, 2011 (for Model A340-200 and -300 series airplanes).

(2) As of the effective date of this AD, no person may install any RAT actuator having P/N 5912536 or P/N 1211526-002, or any RAT having P/N 772722F having a serial number listed as affected in Hamilton Sundstrand Service Bulletin ERPS33T-29-5, dated March 8, 2011, on any airplane, unless the RAT actuator has been replaced with a serviceable unit and the RAT has been re-identified, as applicable, in accordance with the Accomplishment Instructions of Airbus Mandatory Service Bulletin A340-29-5018, dated May 18, 2011.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI European Aviation Safety Agency Airworthiness Directive 2011-0204, dated October 14, 2011, and the service information specified in paragraphs (k)(1), (k)(2), (k)(3), (k)(4), and (k)(5) of this AD, for related information.

(1) Airbus Mandatory Service Bulletin A330-29-3114, dated May 18, 2011.

(2) Airbus Mandatory Service Bulletin A340-29-4089, dated May 18, 2011.

(3) Airbus Mandatory Service Bulletin A340-29-5018, dated May 18, 2011.

(4) Hamilton Sundstrand Service Bulletin ERPS06M-29-18, dated March 8, 2011.

(5) Hamilton Sundstrand Service Bulletin ERPS33T-29-5, dated March 8, 2011.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Mandatory Service Bulletin A330-29-3114, dated May 18, 2011.

(ii) Airbus Mandatory Service Bulletin A340-29-4089, dated May 18, 2011.

(iii) Airbus Mandatory Service Bulletin A340-29-5018, dated May 18, 2011.

(iv) Hamilton Sundstrand Service Bulletin ERPS06M-29-18, dated March 8, 2011.

(v) Hamilton Sundstrand Service Bulletin ERPS33T-29-5, dated March 8, 2011.

(3) For Airbus service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. For Hamilton Sunstrand service information identified in this AD, contact Hamilton Sundstrand, Technical Publications, Mail Stop 302-9, 4747 Harrison Avenue, P.O. Box 7002, Rockford, Illinois 61125-7002; telephone 860-654-3575; fax 860-998-4564; email tech.solutions@hs.utc.com; Internet http://www.hamiltonsundstrand.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on October 12, 2012.
Kalene C. Yanamura,
Acting Manager, Transport Airplane Directorate, Aircraft Certification Service.

[FR Doc. 2012-26171 Filed 10-30-12; 8:45 am]

BILLING CODE 4910-13-P